DEPARTMENT OF THE INTERIOR

Bureau of Land Management

[F-14908-B, F-14908-C; LLAK965000-L14100000-KC0000-P]

Alaska Native Claims Selection

AGENCY: Bureau of Land Management, Interior.

ACTION: Notice of modified decision approving lands for conveyance.

SUMMARY: As required by 43 CFR 2650.7(d), notice is hereby given that the decision approving lands for conveyance to Sitnasuak Native Corporation, notice of which was published in the Federal Register on May 15, 2009, 74 FR 22955, 22956, will be modified by including any right-of-way interest in Federal Aid Secondary Route No. 1412 (Osborne Road), which was inadvertently omitted from the interests to which the conveyance will be made subject to. Notice of the modified decision will also be published four times in the Nome Nugget.

DATES: The time limits for filing an appeal on the change made by the modified decision are:

1. Any party claiming a property interest which is adversely affected by the changes made by the modified decision shall have until September 25, 2009 to file an appeal.

2. Parties receiving service of the decision by certified mail shall have 30 days from the date of receipt to file an appeal.

Parties who do not file an appeal in accordance with the requirements of 43 CFR Part 4, Subpart E, shall be deemed to have waived their rights. Except as modified, the decision, notice of which was given May 15, 2009, is final.

ADDRESSES: A copy of the modified decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Eileen Ford,
Land Transfer Resolution Specialist, Land Transfer Adjudication II Branch.

[FR Doc. E9-20549 Filed 8-25-09; 8:45 am]

BILLING CODE 4310-JA-P